ENVIRONMENTAL PROTECTION AGENCY

[EPA-HQ-OAR-2022-0068; FRL-11125-01-OMS]

Agency Information Collection Activities; Submission to the Office of Management and Budget for Review and Approval; Comment Request; NSPS for VOC Emissions From Petroleum Refinery Wastewater Systems (Renewal)

AGENCY: Environmental Protection Agency (EPA).

ACTION: Notice.

SUMMARY: The Environmental Protection Agency (EPA) has submitted an information collection request (ICR), NSPS for VOC Emissions from Petroleum Refinery Wastewater Systems (EPA ICR Number 1136.14, OMB Control Number 2060-0172) to the Office of Management and Budget (OMB) for review and approval in accordance with the Paperwork Reduction Act. This is a proposed extension of the ICR, which is currently approved through August 31, 2023. Public comments were previously requested via the Federal Register on July 22, 2022 during a 60-day comment period. This notice allows for an additional 30 days for public comments.

DATES: Comments may be submitted on or before July 31, 2023.

ADDRESSES: Submit your comments, referencing Docket ID Number EPA-HQ-OAR-2022-0068, to EPA online using www.regulations.gov/ (our preferred method), by email to a-and-r-Docket@epa.gov, or by mail to: EPA Docket Center, Environmental Protection Agency, Mail Code 28221T, 1200 Pennsylvania Ave. NW, Washington, DC 20460. EPA's policy is that all comments received will be included in the public docket without change, including any personal information provided, unless the comment includes profanity, threats, information claimed to be Confidential Business Information (CBI), or other information whose disclosure is restricted by statute.

Submit written comments and recommendations to OMB for the proposed information collection within 30 days of publication of this notice to www.reginfo.gov/public/do/PRAMain. Find this specific information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: This is a proposed extension of the ICR, which is currently approved through April 30, 2023. An agency may neither conduct nor sponsor, and a person is not required to respond to, a collection of information unless it displayed a currently valid OMB control number.

Public comments were previously requested via the Federal Register on April 29, 2022 during a 60-day comment period (85 FR 23825). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The New Source Performance Standards (NSPS) for VOC Emissions from Petroleum Refinery Wastewater Systems (40 CFR part 60, subpart QQQ) were proposed on May 4, 1987; and promulgated on November 23, 1988. These regulations apply to existing facilities and new wastewater systems at petroleum refineries, and cover individual drain systems, oil-water separators, and aggregate facilities. An individual drain system consists of all process drains connected to the first downstream junction box. An oil-water separator is the wastewater treatment equipment used to separate oil from water. An aggregate facility is an individual drain system together with ancillary downstream sewer lines and oil-water separators, down to and including the secondary oil-water separator, as applicable. Aggregate facilities are intended to capture any potential VOC emissions within the petroleum refinery wastewater system during expansions of and additions to the system. New facilities include those that commenced construction, modification, or reconstruction after the date of proposal. This information is being collected to assure compliance with 40 CFR part 60, subpart QQQ.

In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NSPS.

Form Numbers: None.

Respondents/affected entities: Existing and new wastewater systems at petroleum refineries.

Respondent's obligation to respond: Mandatory (40 CFR part 60, subpart QQQ).

Estimated number of respondents: 130 (total).

Frequency of response: Initially, occasionally, and semiannually.

Total estimated burden: 8,900 hours (per year). Burden is defined at 5 CFR 1320.3(b).

Total estimated cost: $1,340,000 (per year), which includes $16,900 in annualized capital/startup and/or operation & maintenance costs.

Changes in the Estimates: The adjustment decrease in burden from the most recently approved ICR is due to a decrease in the number of sources. The previous ICR included 149 respondents, while this ICR only includes 130. Petroleum refinery capacities have been declining since 2020, including the associated wastewater systems. This ICR estimated the number of respondents using data collected by the U.S. Energy Information Administration. The decrease in the number of sources also led to a decrease of the Capital and Operation & Maintenance costs.

Courtney Kerwin,
Director, Regulatory Support Division.

[FR Doc. 2023-13951 Filed 6-29-23; 8:45 am]

BILLING CODE 6560-50-P